DEPARTMENT OF COMMERCE

International Trade Administration

[C-570-993, C-560-827]

Termination of Countervailing Duty Investigations; Monosodium Glutamate From the People's Republic of China and the Republic of Indonesia

AGENCY: Enforcement and Compliance, formerly Import Administration, International Trade Administration, Department of Commerce.

SUMMARY: On March 7, 2014, the Department of Commerce (the Department) received a letter from counsel to Ajinomoto Co., Inc. and Ajinomoto North America Inc. (collectively, AJINA, or Petitioner). The letter notified the Department that Petitioner was withdrawing the petition filed on September 16, 2013 with respect to the countervailing duty (CVD) investigations of monosodium glutamate (MSG) from the People's Republic of China (PRC) and the Republic of Indonesia (Indonesia). In this instance, because producers accounting for substantially all of the production of the domestic like product expressed a lack of interest in issuance of an order, the Department is terminating these CVD investigations in accordance with section 782(h)(1) of the Tariff Act of 1930, as amended (the Act).

DATES: Effective Date: April 7, 2014.

FOR FURTHER INFORMATION CONTACT: Jun Jack Zhao or Nicholas Czajkowski, Office VII, AD/CVD Operations, Enforcement and Compliance, International Trade Administration, U.S. Department of Commerce, 14th Street and Constitution Avenue NW., Washington, DC 20230; telephone: (202) 482-1396 and (202) 482-1395, respectively.

SUPPLEMENTARY INFORMATION:

Background

On September 16, 2013, AJINA filed a petition alleging that countervailable subsidies were being provided to producers and exporters of MSG from Indonesia and the PRC.¹ On October 23, 2013, the Department initiated CVD investigations with respect to imports of MSG from Indonesia and the PRC.² On March 4, 2014, the Department reached its preliminary affirmative determination that countervailable subsidies were being provided to producers and exporters of MSG in the PRC; the Department also preliminarily determined that critical circumstances exist for imports of MSG from the PRC.³ On that same date, the Department made a preliminary determination that countervailable subsidies were not being provided to producers and exporters of MSG in Indonesia; the Department also preliminarily determined that critical circumstances did not exist for imports of MSG from Indonesia.⁴ On March 7, 2014, Petitioner withdrew its petition with respect to the CVD investigations on imports of MSG from Indonesia and the PRC.⁵

¹ See Letter from Petitioner, “Petition for Antidumping and Countervailing Duties: Monosodium Glutamate from the People's Republic of China and the Republic of Indonesia,” dated September 16, 2013 (the petition).

² See Monosodium Glutamate From the People's Republic of China and the Republic of Indonesia: Initiation of Countervailing Duty Investigations, 78 FR 65269 (October 31, 2013).

³ See Monosodium Glutamate From the People's Republic of China: Preliminary Affirmative Countervailing Duty Determination; and Preliminary Affirmative Determination of Critical Circumstances, 79 FR 13615 (March 11, 2014).

⁴ See Monosodium Glutamate From the Republic of Indonesia: Preliminary Negative Countervailing Duty Determination; and Preliminary Negative Determination of Critical Circumstances, 79 FR 13614 (March 11, 2014).

⁵ See Letter from Petitioner, “Withdrawal of Countervailing Duty Petition,” dated March 7, 2014.

Scope of the Investigations

The scope of these investigations covers monosodium glutamate, whether or not blended or in solution with other products. Specifically, MSG that has been blended or is in solution with other product(s) is included in this scope when the resulting mix contains 15 percent or more of MSG by dry weight. Products with which MSG may be blended include, but are not limited to, salts, sugars, starches, maltodextrins, and various seasonings. Further, MSG is included in these investigations regardless of physical form (including, but not limited to, substrates, solutions, dry powders of any particle size, or unfinished forms such as MSG slurry), end-use application, or packaging.

MSG has a molecular formula of C5H8NO4Na, a Chemical Abstract Service (CAS) registry number of 6106-04-3, and a Unique Ingredient Identifier (UNII) number of W81N5U6R6U.

Merchandise covered by the scope of these investigations is currently classified in the Harmonized Tariff Schedule (HTS) of the United States at subheading 2922.42.10.00. Merchandise subject to these investigations may also enter under HTS subheadings 2922.42.50.00, 2103.90.72.00, 2103.90.74.00, 2103.90.78.00, 2103.90.80.00, and 2103.90.90.91. The tariff classifications, CAS registry number, and UNII number are provided for convenience and customs purposes; however, the written description of the scope is dispositive.

Termination of the Countervailing Duty Investigations

Pursuant to section 782(h)(1) of the Act and 19 CFR 351.207(c), the Department may terminate an investigation based upon a lack of interest if the Department determines that producers accounting for substantially all of the production of that domestic like product expressed a lack of interest in issuance of an order. In these CVD investigations, AJINA represents 100 percent of the industry producing the domestic like product.⁶ As such, because AJINA withdrew its CVD petition regarding MSG from Indonesia and the PRC and because AJINA constitutes 100 percent of the production of the domestic like product, the Department finds that producers accounting for substantially all—in this case, all—of the production of the domestic like product expressed a lack of interest in CVD orders, within the meaning of section 782(h)(1) of the Act. Consequently, we are terminating these CVD investigations and will direct U.S. Customs and Border Protection (CBP) to terminate the suspension of liquidation of entries of subject merchandise imported from the PRC. Because we have not directed CBP to suspend liquidation of entries of subject merchandise imported from Indonesia, we will not direct CBP to take any action regarding entries of subject merchandise imported from Indonesia.

⁶ See the petition at Exhibit I-1.A.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a violation that is subject to sanction.

This determination and notice are in accordance with section 782(h)(1) of the Act and 19 CFR 351.207(c).

Dated: March 31,2014.
Paul Piquado,
Assistant Secretary for Enforcement and Compliance.

[FR Doc. 2014-07716 Filed 4-4-14; 8:45 am]

BILLING CODE 3510-DS-P